DEPARTMENT OF VETERANS AFFAIRS

[OMB Control No. 2900-0674]

Agency Information Collection—Clarification of a Notice of Disagreement Under OMB Review

AGENCY: Board of Veterans' Appeals, Department of Veterans Affairs.

ACTION: Notice.

SUMMARY: In compliance with the Paperwork Reduction Act (PRA) of 1995 (44 U.S.C. 3501-3521), this notice announces that the Board of Veterans' Appeals (BVA), Department of Veterans Affairs, will submit the collection of information abstracted below to the Office of Management and Budget (OMB) for review and comment. The PRA submission describes the nature of the information collection and its expected cost and burden and includes the actual data collection instrument.

DATES: Comments must be submitted on or before September 8, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0674” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0674” in any correspondence.

SUPPLEMENTARY INFORMATION: Title: Clarification of Notice of Disagreement.

OMB Control Number: 2900-0674.

Type of Review: Revision of a currently approved collection.

Abstract: Appellate review of the denial of Department of Veterans Affairs (VA) benefits is initiated by a claimant, or his/her representative, filing a Notice of Disagreement. 38 U.S.C.A. §§ 7105(a), (b)(2). A Notice of Disagreement is a written communication that expresses (1) dissatisfaction or disagreement with an adjudicative determination by the agency of original jurisdiction (AOJ) and (2) a desire to contest the result. 38 U.S.C.A. § 7105; 38 CFR 20.201. No special form or wording is required; however, the Notice of Disagreement must identify the specific determinations with which the claimant disagrees, and must be in terms that can be reasonably construed as disagreement with the AOJ's determination and a desire for appellate review. Id. If the AOJ receives a written communication expressing dissatisfaction or disagreement within one year (or 60 days for simultaneously contested claims) of mailing an adverse decision, but cannot clearly identify that communication as expressing an intent to appeal, or cannot identify which claims the claimant wants to appeal, then the AOJ will contact the claimant orally or in writing to request clarification of his/her intent. 38 CFR 19.26(b).

An agency may not conduct or sponsor, and a person is not required to respond to a collection of information unless it displays a currently valid OMB control number. The Federal Register Notice with a 60-day comment period soliciting comments on this collection of information was published at 80 FR 8764 on February 18, 2015.

Affected Public: Individuals or households.

Estimated Annual Burden: 122,487.

Estimated Average Burden per Respondent: 1 hour.

Frequency of Response: On occasion.

Estimated Number of Respondents: 122,487.

By direction of the Secretary.
Kathleen M. Manwell.
Program Analyst, VA Privacy Service, Office of Privacy and Records Management, Department of Veterans Affairs.

[FR Doc. 2015-19479 Filed 8-6-15; 8:45 am]

BILLING CODE 8320-01-P